ENVIRONMENTAL PROTECTION AGENCY

[FRL-7572-3; OEI-2003-0034]

Privacy Act of 1974; Notice of System of Records

AGENCY: Environmental Protection Agency.

ACTION: Notice; amendment to Notice of Privacy Act System of Records EPA-1.

SUMMARY: The Environmental Protection Agency (EPA or Agency) is amending a Privacy Act system of records to reflect the agency's migration from its legacy Payroll and Personnel System (EPAYS) to PeoplePlus, a modern, commercial off the shelf system. PeoplePlus allows the agency to fully integrate its payroll and HR systems and supports the government-wide initiative led by the Office of Personnel Management (OPM) to consolidate executive branch payroll providers. This advance in technology paves the way for EPA to become a payroll customer of USDA's National Finance Center at the start of FY2005.

The PeoplePlus system consists of two separate applications. One application will perform HR functions, and the other will perform payroll, and time and labor functions. The records and routine uses of the information in the HR application remain covered by a government-wide notice published by OPM April 27, 2000 at 65 FR 24732. The EPA notice published today is a technical amendment to EPA's system of records to notify the public of the routine uses for the new payroll, time, and labor application. This notice does not affect any Privacy Act rights already accorded individuals who are the subject of agency payroll records. PeoplePlus will not change the nature of the records currently kept by EPA, and no new uses of information are proposed. This action simply gives notice that EPAYS is being replaced by PeoplePlus. The records are needed to administer EPA's pay and leave requirements, including processing, accounting and reporting requirements.

Today's notice rescinds the portions of EPA's notice published in the Federal Register February 22, 2002, at 67 FR 8246 that pertain to the legacy EPAYS system.

DATES: This notice is effective October 10, 2003.

FOR FURTHER INFORMATION CONTACT: Melvin Visnick, Chief, Washington Finance Center, Office of the Chief Financial Officer, U.S. Environmental Protection Agency, 1200 Pennsylvania Ave., NW., (MC 2734R), Washington, DC 20460, 202-564-4944.

Additional information about implementation of the Privacy Act at EPA is available on the Internet at http://www.epa.gov/privacy/.

SUPPLEMENTARY INFORMATION: EPA prepares and processes payroll for its employees and for employees of the Department of Transportation's Surface Transportation Board (STB). EPA's legacy Payroll and Personnel System (EPAYS) is more than 30 years old, and the Agency is replacing it with PeoplePlus, a modern, fully integrated human resources (HR), payroll, time and labor system. PeoplePlus will not be used to prepare and process payroll for STB.

Replacing EPAYS is part of an overall e-government effort led by the Office of Personnel Management (OPM) to consolidate executive branch payroll providers and to simplify and standardize civilian payroll procedures across the Federal government. The e-payroll initiative will transform the current federal civilian payroll service delivery environment and realize efficiencies government-wide. Implementation of PeoplePlus at EPA helps establish the technical infrastructure for EPA to become a payroll customer of the National Finance Center at the start of FY 2005, supporting government-wide payroll consolidation through a phased approach that incorporates modern technology.

The PeoplePlus system consists of two separate applications. One application performs HR functions, and the other performs payroll, time, and labor functions. The records and routine uses of the information in the HR application remain covered by OPM/GOVT-1, a government-wide notice published by OPM April 27, 2000 at 65 FR 24732. The EPA notice published today is a technical amendment to EPA's system of records to notify the public of the routine uses for the new payroll, time, and labor application in PeoplePlus. This notice does not affect any Privacy Act rights accorded individuals who are the subject of agency payroll records. The nature of the records kept by EPA remains the same, and no new uses of the information are proposed. This action simply gives notice that EPAYS is being replaced by the PeoplePlus payroll, time, and labor application. The records are needed to administer EPA's pay and leave requirements, including processing, accounting and reporting requirements.

Today's notice rescinds the portions of EPA's notice published in the Federal Register February 22, 2002, at 67 FR 8246 that pertain to the EPA-1 system of records.

To Obtain Copies of This Document and Related Information

EPA has established an official public docket for this action under Docket ID No. OEI-2003-0034. The official public docket is the collection of materials that is available for public viewing at the Office of Environmental Information (OEI) Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified above.

More information on implementation of the Privacy Act at EPA is available at http://www.epa.gov/privacy/.

Dated: October 3, 2003.
Richard D. Otis, Jr.,
Deputy Assistant Administrator, Office of Environmental Information.

EPA-1

System Name:

PeoplePlus Payroll, Time and Labor Application.

System Location:

National Computer Center, Environmental Protection Agency, Research Triangle Park, North Carolina 27711.

Categories of Individuals Covered by the System:

Current and former EPA employees including Health and Human Services Public Health Service Commissioned Officers assigned to EPA and employees of the Surface Transportation Board (formerly the Interstate Commerce Commission), Department of Transportation.

Categories of Records Covered by the System:

This system contains personnel, basic benefits, pay, cash awards, and leave records. This includes, but is not limited to, employee information such as: Name(s), date of birth, social security number, home and mailing addresses, grade, employing organization, salary, pay plan, number of hours worked, overtime, compensatory time, leave accrual rate, leave usage and balances, Civil Service Retirement and Federal Retirement System contributions, FICA withholdings, Federal, State, and city tax withholdings, Federal Employee Group Life Insurance withholdings, Federal Employee Health Benefits withholdings, charitable deductions, allotments to financial organizations, garnishments, savings bonds allotments, union dues withholdings, deductions for Internal Revenue Service levies, court ordered child support levies, Federal salary offset deductions, and information on the Leave Transfer Program and the Leave Bank Program.

Authority for Maintenance of the System:

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943).

Purpose(s):

The records are needed to administer EPA's pay and leave requirements, including processing, accounting and reporting requirements.

Routine Uses of Records Maintained in the System, Including Categories of Users, and the Purposes of Such Uses:

A. To the Department of Treasury to issue checks, make payments, make electronic funds transfers, and issue U.S. Savings Bonds.

B. To the Department of Agriculture National Finance Center to credit Thrift Savings Plan deductions and loan payments to employee accounts.

C. To the Department of Labor in connection with a claim filed by an employee for compensation due to a job connected injury or illness.

D. To the Internal Revenue Service; Social Security Administration; and State and local tax authorities in connection with the withholding of employment taxes.

E. To State Unemployment Offices in connection with a claim filed by former employees for unemployment benefits.

F. To the officials of labor organizations as to the identity of employees contributing union dues each pay period and the amount of dues withheld from each employee.

G. To the Office of Personnel Management and to Health Benefit carriers in connection with enrollment and payroll deductions.

H. To the Office of Personnel Management in connection with employee retirement and life insurance deductions.

I. To the Combined Federal Campaign in connection with payroll deductions for charitable contributions.

J. To the Office of Management and Budget and Department of the Treasury to provide required reports on financial management responsibilities.

K. To provide information as necessary to other Federal, State, local or foreign agencies conducting computer matching programs to help eliminate fraud and abuse and to detect unauthorized overpayments made to individuals. When disclosures are made as part of computer matching programs, EPA will comply with the Computer Matching and Privacy Protection Act of 1988.

L. To the Internal Revenue Service in connection with withholdings for tax levies.

M. To the Social Security Administration and the Department of Health and Human Services to provide information on newly hired employees for child support enforcement purposes.

N. To the Department of Health and Human Services in connection with the master personnel and payroll files for their Public Health Service Officers.

General Routine Uses of EPA Systems of Records:

A. Disclosure for Law Enforcement Purposes—Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information—Information may be disclosed to any source from which additional information is requested (to the extent necessary to identify the individual, inform the source of the purpose of the request, and to identify the type of information requested), when necessary to obtain information relevant to an agency decision concerning retention of an employee or other personnel action (other than hiring), retention of a security clearance, the letting of a contract, or the issuance or retention of a grant, or other benefit

C. Disclosure to Requesting Agency—Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget—Information may be disclosed to the Office of Management and Budget at any stage in the legislative coordination and clearance process in connection with private relief legislation as set forth in OMB Circular No. A-19.

E. Disclosure to Congressional Offices—Information may be disclosed to a congressional office from the record of an individual in response to an inquiry from the congressional office made at the request of the individual.

F. Disclosure to Department of Justice—Information may be disclosed to the Department of Justice, or in a proceeding before a court, adjudicative body, or other administrative body before which the Agency is authorized to appear, when: (1) The Agency, or any component thereof; (2) Any employee of the Agency in his or her official capacity; (3) Any employee of the Agency in his or her individual capacity where the Department of Justice or the Agency have agreed to represent the employee; or (4) The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives—Information may be disclosed to the National Archives and Records Administration in records management inspections.

H. Disclosure to Contractors, Grantees, and Others—Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints, and Appeals—Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management—Information from this system of records may be disclosed to the Office of Personnel Management pursuant to that agency's responsibility for evaluation and oversight of Federal personnel management.

K. Disclosure in Connection with Litigation—Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

Policies and Practices For Storing, Retrieving, Accessing, Retaining, and Disposing of Records in the System:

Storage:

These records are maintained in hard copy formats and computer processable storage media such as computer tapes and disks. The computer storage devices are located in the National Computer Center, Research Triangle Park, North Carolina. Backup tapes will be maintained at a disaster recovery site.

Retrievability:

These records are retrieved by the employee identification number or name.

Safeguards:

Computer records are maintained in a secure password protected environment. Access to computer records is limited to those who have a need to know. Permission level assignments will allow users access only to those functions for which they are authorized. Paper records are maintained in locked metal file cabinets. All records are maintained in secure, access-controlled areas or buildings.

Retention and Disposal:

The retention of data in the system will in accordance with the U.S. EPA Records Schedule, as been approved by the National Archives and Records Administration. Employee records are retained on magnetic tapes for an indefinite period. Hard copy records are maintained for varying periods of time, at which time they are disposed of by shredding.

System Manager(s) and Address:

David Bloom, Acting Director, Financial Services Division, Office of the Comptroller, Office of Chief Financial Officer, U.S. Environmental Protection Agency, 1200 Pennsylvania Avenue NW., (MC 2734R), Washington, DC 20460, 202-564-3013.

Notification Procedures:

Individuals who want to know whether this system of records contains information about them, who want to access to their records, or who want to contest the contents of a record, should make a written request to the System Manager. Individuals must furnish the following information for their records to be located and identified:

A. Full name.

B. Date of birth.

C. Social security number.

D. Last employing organization (include duty station location) and, for former EPA employees, approximate date(s) of employment.

E. Signature.

Record Access Procedure:

Individuals wishing to request access to their records should follow the Notification Procedures. Individuals requesting access will also be required to provide adequate identification, such as a driver's license, employee identification card, or other identifying document. Additional identification procedures may be required in some instances.

Contesting Record Procedure:

Individuals requesting correction or amendment of their records should follow the Notification Procedures and also identify the record or information to be changed. Complete EPA Privacy Act procedures are set out in 40 CFR part 16.

Record Source Categories:

Information in this system of records is provided by

A. The individual on whom the record is maintained.

B. Agency officials such as managers and supervisors.

C. Consumer reporting agencies, debt collection agencies, Department of Treasury, and other Federal agencies.

System Exempted From Certain Provisions of the Act:

None.

[FR Doc. 03-25807 Filed 10-9-03; 8:45 am]

BILLING CODE 6560-50-P